DEPARTMENT OF STATE

[Public Notice 4081]

U.S. Advisory Commission on Public Diplomacy; Notice of Meeting

The Department of State announces the meeting of the U.S. Advisory Commission on Public Diplomacy on Wednesday, September 18 in Room 1408 of the U.S. Department of State at 2201 C Street, NW., Washington, DC. The meeting will take place from 10 a.m. to 12 p.m.

The Commission will release its plan to reform the structure and build the resources of America's public diplomacy—how the nation informs and influences foreign audiences. The recommendations include funding levels, leadership models and suggestions on private initiatives that promote dialogue and have a cumulative long-term effect on attitudes toward the United States.

The U.S. Advisory Commission on Public Diplomacy is a bipartisan Presidentially appointed panel created by Congress in 1948 to provide oversight of U.S. Government activities intended to understand, inform and influence foreign publics. The Commission reports its findings and recommendations to the President, the Congress and the Secretary of State and the American people. Current commission members include Harold Pachios of Maine, who is the chairman; Charles Dolan of Virginia, who is the vice chairman; Penne Percy Korth of Washington, D.C.; Lewis Manilow of Illinois; and Maria Elena Torano of Florida.

Members of the general public may attend the meeting, though attendance of public members will be limited to the seating available. Access to the building is controlled, and individual building passes are required for all attendees.

To attend the meeting, please contact Matt Lauer at (202) 619-4457 and provide date of birth and social security number. For more information visit www.state.gov/r/adcompd.

Dated: August 15, 2002.
Matthew Lauer,
Executive Director, U.S. Advisory Commission on Public Diplomacy, Department of State.

[FR Doc. 02-21459 Filed 8-21-02; 8:45 am]

BILLING CODE 4710-11-P